DEPARTMENT OF HOMELAND SECURITY

Coast Guard

DEPARTMENT OF TRANSPORTATION

Maritime Administration

[USCG-2005-21232]

Beacon Port Natural Gas Deepwater Port License Application; Preparation of Environmental Impact Statement

AGENCY: Coast Guard, DHS; Maritime Administration, DOT.

ACTION: Notice of intent; notice of public meetings; request for comments.

SUMMARY: The Coast Guard and the Maritime Administration (MARAD) announce that the Coast Guard intends to prepare an environmental impact statement (EIS) as part of the environmental review of this license application. The application describes a project that would be located in the Gulf of Mexico, in lease block High Island Area 27, on the outer Continental Shelf (OCS). The Main Terminal would be located approximately 45 miles South of High Island and 50 miles East-Southeast of Galveston, Texas, with a riser platform in lease block West Cameron 167, approximately 27 miles South of Holly Beach and 29 miles South-Southeast of Johnson?s Bayou, Louisiana. Publication of this notice begins a scoping process that will help identify and determine the scope of environmental issues to be addressed in the EIS. This notice requests public participation in the scoping process and provides information on how to participate.

DATES: The public meeting in Corpus Christi, Texas will be held on June 28, 2005; the public meeting in Galveston, Texas will be held on June 29, 2005; and the public meeting in Lafayette, Louisiana will be held on June 30, 2005. Each public meeting will be held from 5 p.m. to 7 p.m. and will be preceded by an open house from 3 p.m. to 4:30 p.m. Public meetings may end earlier or later than the stated time, depending on the number of persons wishing to speak. Material submitted in response to the request for comments must reach the Docket Management Facility by July 11, 2005.

ADDRESSES: The public meetings will be held at:

Omni Bayfront Tower, 900 North Shoreline Boulevard, Corpus Christi, TX 78401; telephone 361-887-1600;

San Luis Resort, 5222 Seawall Blvd, Galveston, TX 77551; telephone 409-744-1500; and

Holiday Inn Central, 2032 NE Evangeline Thruway, Lafayette, LA 70501; telephone 337-233-6815.

Address docket submissions for USCG-2005-21232 to: Docket Management Facility, U.S. Department of Transportation, 400 Seventh Street SW., Washington, DC 20590-0001.

The Docket Management Facility accepts hand-delivered submissions, and makes docket contents available for public inspection and copying at this address, in room PL-401, between 9 a.m. and 5 p.m., Monday through Friday, except Federal holidays. The Facility's telephone is 202-366-9329, its fax is 202-493-2251, and its website for electronic submissions or for electronic access to docket contents is http://dms.dot.gov.

FOR FURTHER INFORMATION CONTACT: Ray Martin, U.S. Coast Guard, telephone: 202-267-1683, e-mail: rmartin@comdt.uscg.mil. If you have questions on viewing the docket, call Andrea M. Jenkins, Program Manager, Docket Operations, telephone: 202-366-0271.

SUPPLEMENTARY INFORMATION:

Public Meetings and Open Houses

We invite you to learn about the proposed deepwater port at an informational open house, and to comment at a public meeting on environmental issues related to the proposed deepwater port. Your comments will help us identify and refine the scope of the environmental issues to be addressed in the EIS.

In order to allow everyone a chance to speak at the public meetings, we may limit speaker time, or extend the meeting hours, or both. You must identify yourself, and any organization you represent, by name. Your remarks will be recorded or transcribed for inclusion in the public docket.

You may submit written material at a public meeting, either in place of or in addition to speaking. Written material must include your name and address, and will be included in the public docket.

Public docket materials will be made available to the public on the Docket Management Facility's Docket Management System (DMS). See “Request for Comments” for information about DMS and your rights under the Privacy Act.

All our public meeting locations are wheelchair-accessible. If you plan to attend an open house or public meeting, and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port. The public meetings are not the only opportunity you have to comment. In addition to or in place of attending a meeting, you can submit comments to the Docket Management Facility during the public comment period (see DATES). We will consider all comments and material received during the comment period.

Submissions should include:

• Docket number USCG-2005-21232.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS website.

Background

Information about deepwater ports, the statutes, and regulations governing their licensing, and the receipt of the current application for a liquefied natural gas (LNG) deepwater port appears at 70 FR 29776, May 24, 2005. The “Summary of the Application” from that publication is reprinted below for your convenience.

Consideration of a deepwater port license application includes review of the proposed deepwater port's natural and human environmental impacts. The Coast Guard is the lead agency for determining the scope of this review, and in this case the Coast Guard has determined that review must include preparation of an EIS. This notice of intent is required by 40 CFR 1508.22, and briefly describes the proposed action and possible alternatives and our proposed scoping process. You can address any questions about the proposed action, the scoping process, or the EIS to the Coast Guard official identified in FOR FURTHER INFORMATION CONTACT.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative.

Scoping Process

Public scoping is an early and open process for identifying and determining the scope of issues to be addressed in the EIS. Scoping begins with this notice, continues through the public comment period (see DATES), and ends when the Coast Guard has completed the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

Once the scoping process is complete, the Coast Guard will prepare a draft EIS, and we will publish a Federal Register notice announcing its public availability. (If you want that notice to be sent to you, please contact the Coast Guard officer identified in FOR FURTHER INFORMATION CONTACT.) You will have an opportunity to review and comment on the draft EIS. The Coast Guard will consider those comments and then prepare the final EIS. As with the draft EIS, we will announce the availability of the final EIS and once again give you an opportunity for review and comment.

Summary of the Application

The application plan calls for the proposed deepwater port terminal to be located outside State waters in the Gulf of Mexico on the U.S. Outer Continental Shelf (OCS). Beacon Port would consist of a Main Terminal, Riser Platform, and connecting pipelines. The Main Terminal would be located approximately 50 miles (80 km) off the coast, East-Southeast of Galveston, TX (approximately 45 miles (72 km) South of High Island, TX) in OCS lease block High Island Area 27 (HIA 27). The Riser Platform would be located approximately 29 miles off the coast, South-Southeast of Johnson's Bayou, LA (approximately 27 miles South of Holly Beach, LA) in OCS lease block West Cameron 167 (WC 167). Beacon Port would serve as an LNG receiving, storage, and regasification facility. The Main Terminal would be located in water depth of approximately 65 feet (20 m).

The proposed Beacon Port Main Terminal would include: Two concrete Gravity Based Structures (GBS) that would contain the LNG storage tanks, LNG carrier berthing provisions, LNG unloading arms, low and high pressure pumps, vaporizers, metering, utility systems, general facilities and accommodations. The Main Terminal would be able to receive LNG carriers up to 253,000 cubic meters cargo capacity. LNG carrier arrival frequency would be planned to match specified terminal gas delivery rates. The terminal would have storage capacity for up to 300,000 cubic meters of LNG (150,000 cubic meters per tank) on site.

Regasification of LNG would be accomplished through the use of open rack vaporizers (ORVs). In normal operation, four pumps would operate having a combined total flow rate of approximately 167.5 million gallons per day (26,400 m³/hr). At peak operation, five pumps would operate with a combined total flow rate of approximately 203 million gallons per day (32,000 m³/hr).

Beacon Port proposes the installation of approximately 46 miles of offshore natural gas transmission pipeline on the OCS. A 42-inch diameter pipeline would connect the Main Terminal with the Riser Platform. Three additional pipelines (24-inch, 20-inch, and 12.75-inch diameter) are proposed to connect the Riser Platform with existing gas distribution pipelines in the West Cameron (WC) 167 OCS block. The deepwater port would be designed to handle an average delivery of approximately 1.5 billion standard cubic feet per day (Bscfd) with a peak delivery of approximately 1.8 Bscfd.

Dated: June 7, 2005.
Raymond J. Petow,
Captain, U.S. Coast Guard, Acting Director of Standards, Marine Safety, Security, and Environmental Protection, U.S. Coast Guard.
H. Keith Lesnick,
Senior Transportation Specialist, Deepwater Ports, Program Manager, U.S. Maritime Administration.

[FR Doc. 05-11558 Filed 6-9-05; 8:45 am]

BILLING CODE 4910-15-P